DEPARTMENT OF TRANSPORTATION

Federal Railroad Administration

[Docket No. FRA-2020-0031]

Petition for Approval Extension: Union Pacific Railroad

AGENCY: Federal Railroad Administration (FRA), Department of Transportation (DOT).

ACTION: Notice of petition for an extension of approval of track inspection test program.

SUMMARY: This document provides the public notice that on July 21, 2021, Union Pacific Railroad (UP) petitioned the Federal Railroad Administration (FRA) to extend an existing temporary suspension of some visual track inspections to allow for the continuation of a previously approved Test Program designed to test track inspection technologies (i.e., an autonomous track geometry measurement system) and new operational approaches to track inspections (i.e., combinations of autonomous inspection and traditional visual inspections).

FOR FURTHER INFORMATION CONTACT: Yu-Jiang Zhang, Staff Director, Track and Structures Division, at (202) 493-6460 or yujiang.zhang@dot.gov; or Aaron Moore, Attorney, Office of the Chief Counsel, at (202) 493-7009 or aaron.moore@dot.gov.

SUPPLEMENTARY INFORMATION: On April 28, 2020, FRA conditionally approved the Test Program and UP's petition under 49 CFR 211.51 to suspend § 213.233(c) as applied to operations under the Test Program. Accordingly, a copy of the Test Program, FRA's conditional approval of the Test Program, and a previously published Federal Register notice explaining FRA's rationale for approving the Test Program and related suspension are available for review in the docket.¹

¹ https://www.regulations.gov/document/FRA-2020-0031-0001 (Test Program); https://www.regulations.gov/document/FRA-2020-0031-0002 (FRA's approval decision); https://www.regulations.gov/document/FRA-2020-0031-0004 (FRA's published notice of approval).

As approved, the Test Program includes two separate phases over 12 months, as outlined in Exhibit C of the Program.² UP began the Test Program on June 15, 2020. Accordingly, the Test Program expired on June 15, 2021. UP is requesting to renew and extend the Test Program for one year, until June 15, 2022, to complete the Program.

² See https://www.regulations.gov/document/FRA-2020-0031-0001.

A copy of the petition, as well as any written communications concerning the petition, if any, are available for review online at www.regulations.gov.

Interested parties are invited to participate in these proceedings by submitting written views, data, or comments.

All communications concerning these proceedings should identify the appropriate docket number and may be submitted by any of the following methods:

• Website: http://www.regulations.gov. Follow the online instructions for submitting comments.

Communications received by September 7, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-16441 Filed 7-30-21; 8:45 am]

BILLING CODE 4910-06-P